DEPARTMENT OF DEFENSE

Office of the Secretary

Defense Policy Board; Notice of Federal Advisory Committee Meeting

AGENCY: Under Secretary of Defense for Policy, Department of Defense (DoD).

ACTION: Notice of Federal advisory committee meeting.

SUMMARY: The DoD is publishing this notice to announce the following Federal advisory committee meeting of the Defense Policy Board (DPB) will take place.

DATES: Closed to the public; Wednesday, June 26, 2024, from 8:50 a.m. to 5:30 p.m. Closed to the public; Thursday, June 27, 2024, from 9:30 a.m. to 12:00 p.m.

ADDRESSES: The closed meeting will be held in the Rodman Conference Room, 3D852, at The Pentagon, 2000 Defense Pentagon, Washington, DC 20301-2000.

FOR FURTHER INFORMATION CONTACT: James E. Benkowski, DPB Designated Federal Officer (DFO), 703-697-4758 (Voice), james.e.benkowski2.civ@mail.mil (Email). Mailing address is 2000 Defense Pentagon, Attn: 5E420, Washington, DC 20301-2000.

SUPPLEMENTARY INFORMATION: This meeting is being held under the provisions of chapter 10 of title 5, United States Code (U.S.C.) (commonly known as the “Federal Advisory Committee Act” or “FACA”), 5 U.S.C. 552b (commonly known as the “Government in the Sunshine Act”), and sections 102-3.140 and 102-3.150 of title 41, Code of Federal Regulations (CFR).

Due to circumstances beyond the control of the DFO and the DoD, the Defense Policy Board was unable to provide public notification required by 41 CFR 102-3.150(a) concerning its June 26-27, 2024 meeting. Accordingly, the Advisory Committee Management Officer for the DoD, pursuant to 41 CFR 102-3.150(b), waives the 15-calendar day notification requirement.

Purpose of the Meeting: To obtain, review, and evaluate classified information related to the DPB's mission to advise on: (a) issues central to strategic DoD planning; (b) policy implications of U.S. force structure and modernization on DoD's ability to execute U.S. defense strategy; (c) U.S. regional defense policies; and (d) other defense policy topics of special interest to the DoD, as determined by the Secretary of Defense, the Deputy Secretary of Defense, or the Under Secretary of Defense for Policy.

Agenda: On June 26 and 27, 2024, the DPB will receive classified briefings to evaluate DoD's readiness to execute a full or total mobilization in a protracted high-intensity conflict. James Benkowski, Designated Federal Office, will provide opening remarks; Ms. Amanda Dory, Acting Under Secretary of Defense for Policy, and Dr. Janine Davidson, Chair of the Defense Policy Board, will welcome the DPB and explain the meeting's key objectives; Ms. Madeline Mortelmans, Acting Assistant Secretary of Defense for Strategy Plans and Capabilities, and Ms. Rebecca Zimmerman, Acting Assistant Secretary of Defense for Homeland Defense and Hemispheric Affairs, will discuss DoD's planning for high-intensity protracted conflicts and associated mobilization readiness requirements; HON Mr. Lloyd James Austin III, Secretary of Defense, will provide a strategic overview of DoD's preparedness to execute a large-scale mobilization during a protracted high-intensity conflict; Ms. Shawn Skelly, Performing the Duties of the Deputy Under Secretary of Defense for Personnel and Readiness, will provide a briefing on DoD's approach to large-scale mobilization with a focus on personnel; HON Dr. William LaPlante will discuss DoD's ability to produce and sustain the materiel and equipment required by the Joint Force during a large-scale mobilization; Lieutenant General Jon Jensen, Acting Vice Chief of the National Guard Bureau and Director, Army National Guard, will discuss the requirements, plans, and policies for mobilizing the National Guard during a protracted high-intensity conflict; Lieutenant General Dagvin Anderson, Director for Joint Force Development, J7, will provide Joint Staff perspectives on DoD's readiness for large-scale mobilization; Vice Admiral Eugene Black III, Deputy Chief of Naval Operations for Operations, Plans, and Strategy, and Lieutenant General Patrick Matlock, Deputy Chief of Staff of the Army for Operations, Plans, and Training, will provide Service perspectives on large-scale mobilization planning and readiness; Admiral Samuel Paparo, Commander, U.S. Indo-Pacific Command, will discuss planning for, and expectations regarding, large-scale mobilization during a protracted high-intensity conflict; Dr. Janine Davidson, the DPB Chair, will then lead the DPB in discussions and deliberations on U.S. mobilization readiness. Day One will conclude. Day Two will begin with Dr. Janine Davidson, the DPB Chair, leading the DPB through discussions and deliberations on U.S. mobilization readiness; the DPB will then provide its advice and recommendations to Ms. Amanda Dory, Acting Under Secretary of Defense for Policy, after which the meeting will conclude.

Meeting Accessibility: In accordance with 5 U.S.C. 1009(d) and 41 CFR 102-3.155, the DoD has determined that this meeting shall be closed to the public. The Acting Under Secretary of Defense (Policy), in consultation with the DoD FACA Attorney, has determined in writing that this meeting is closed to the public because the discussions fall under the purview of 5 U.S.C. 552b(c)(1) and are so inextricably intertwined with unclassified material that they cannot reasonably be segregated into separate discussions without disclosing classified material.

Written Statements: In accordance with 5 U.S.C. 1009(a)(3) and 41 CFR 102-3.105(j) and 102-3.140(c), the public or interested organizations may submit written statements to the membership of the DPB at any time regarding its mission or in response to the stated agenda of a planned meeting. Written statements should be submitted to the DPB's DFO, who's information is listed in this notice in the FOR FURTHER INFORMATION CONTACT section or can be obtained from the GSA's FACA Database— http://www.facadatabase.gov/. Written statements that do not pertain to a scheduled meeting of the DPB may be submitted at any time. However, if individual comments pertain to a specific topic being discussed at a planned meeting, then these statements must be submitted no later than one business day prior to the meeting in question. The DFO will review all submitted written statements and provide copies to all members.

Dated: June 20, 2024.
Aaron T. Siegel,
Alternate OSD Federal Register Liaison Officer, Department of Defense.

[FR Doc. 2024-13959 Filed 6-25-24; 8:45 am]

BILLING CODE 6001-FR-P